COMMODITY FUTURES TRADING COMMISSION

Agency Information Collection Activities Under OMB Review

AGENCY: Commodity Futures Trading Commission.

ACTION: Notice.

SUMMARY: In compliance with the Paperwork Reduction Act of 1995 (“PRA”), this notice announces that the Information Collection Request (“ICR”) abstracted below has been forwarded to the Office of Information and Regulatory Affairs (“OIRA”), of the Office of Management and Budget (“OMB”), for review and comment. The ICR describes the nature of the information collection and its expected costs and burden.

DATES: Comments must be submitted on or before June 9, 2025.

ADDRESSES: Written comments and recommendations for the proposed information collection should be submitted within 30 days of this notice's publication to OIRA, at https://www.reginfo.gov/public/do/PRAMain. Please find this particular information collection by selecting “Currently under 30-day Review—Open for Public Comments” or by using the website's search function. Comments can be entered electronically by clicking on the “comment” button next to the information collection on the “OIRA Information Collections Under Review” page, or the “View ICR—Agency Submission” page. A copy of the supporting statement for the collection of information discussed herein may be obtained by visiting https://www.reginfo.gov/public/do/PRAMain.

In addition to the submission of comments to https://Reginfo.gov as indicated above, a copy of all comments submitted to OIRA may also be submitted to the Commodity Futures Trading Commission (the “Commission” or “CFTC”) by clicking on the “Submit Comment” box next to the descriptive entry for OMB Control No. 3038-0084, at https://comments.cftc.gov/FederalRegister/PublicInfo.aspx.

Or by either of the following methods:

• Mail: Christopher Kirkpatrick, Secretary of the Commission, Commodity Futures Trading Commission, Three Lafayette Centre, 1155 21st Street NW, Washington, DC 20581.

• Hand Delivery/Courier: Same as Mail above.

All comments must be submitted in English, or if not, accompanied by an English translation. Comments submitted to the Commission should include only information that you wish to make available publicly. If you wish the Commission to consider information that you believe is exempt from disclosure under the Freedom of Information Act (“FOIA”), a petition for confidential treatment of the exempt information may be submitted according to the procedures established in § 145.9 of the Commission's regulations.¹ The Commission reserves the right, but shall have no obligation, to review, pre-screen, filter, redact, refuse or remove any or all of your submission from https://www.cftc.gov that it may deem to be inappropriate for publication, such as obscene language. All submissions that have been redacted or removed that contain comments on the merits of the ICR will be retained in the public comment file and will be considered as required under the Administrative Procedure Act and other applicable laws, and may be accessible under FOIA.

¹ 17 CFR 145.9, 74 FR 17395 (Apr. 15, 2009).

FOR FURTHER INFORMATION CONTACT: Catherine Brescia, Attorney Advisor, Market Participants Division, Commodity Futures Trading Commission, Three Lafayette Centre, 1155 21st Street NW, Washington, DC 20581; (202) 418-6236; email: cbrescia@cftc.gov.

SUPPLEMENTARY INFORMATION:

Title: Regulations Establishing and Governing the Duties of Swap Dealers and Major Swap Participants (OMB Control No. 3038-0084). This is a request for an extension of a currently approved information collection.

Abstract: On April 3, 2012,² the Commission adopted Commission regulations 23.600 (Risk Management Program for Swap Dealers and Major Swap Participants), 23.601 (Monitoring of Position Limits), 23.602 (Diligent Supervision), 23.603 (Business Continuity and Disaster Recovery), 23.606 (General Information: Availability for Disclosure and Inspection), and 23.607 (Antitrust Considerations) ³ pursuant to section 4s(j) ⁴ of the Commodity Exchange Act (“CEA”). The above regulations adopted by the Commission require, among other things, swap dealers (“SD”) ⁵ and major swap participants (“MSP”) ⁶ to: (1) develop robust and professional risk management systems (including a plan for business continuity and disaster recovery and policies and procedures designed to ensure compliance with applicable position limits) adequate for managing the day-to-day business of the SD or MSP; (2) monitor its trading in swaps to prevent violations of applicable position limits; (3) disclose to the Commission and to the prudential regulator for the SD or MSP, as applicable, information concerning (A) terms and condition of its swaps, (B) swap trading operations, mechanisms, and practices, (C) financial integrity protections relating to swaps, and (D) other information relevant to its trading in swaps; and (4) establish and enforce internal systems and procedures to obtain any necessary information needed to perform their duties and to provide such information to the Commission and any applicable prudential regulator. The Commission believes that the information collection obligations imposed by the above regulations are essential to ensuring that SDs and MSPs maintain adequate and effective risk management.

² 77 FR 20128 (Apr. 3, 2012).

³ 17 CFR 23.600, 23.601, 23.602, 23.603, 23.606, and 23.607.

⁴ 7 U.S.C. 6s(j).

⁵ For the definition of SD, see section 1a(49) of the CEA and Commission regulation 1.3. 7 U.S.C. 1a(49) and 17 CFR 1.3.

⁶ For the definitions of MSP, see section 1a(33) of the CEA and Commission regulation 1.3. 7 U.S.C. 1a(33) and 17 CFR 1.3.

An agency may not conduct or sponsor, and a person is not required to respond to, a collection of information unless it displays a currently valid OMB control number.⁷ On February 4, 2025, the Commission published in the Federal Register notice of the proposed extension of this information collection and provided 60 days for public comment on the proposed extension, 90 FR 9075 (“60-Day Notice”). The Commission did not receive any relevant comments on the 60-Day Notice.

⁷ 44 U.S.C. 3512, 5 CFR 1320.5(b)(2)(i) and 1320.8 (b)(3)(vi). See also 46 FR 63035 (Dec. 30, 1981).

Burden Statement: The Commission is revising its burden estimate for this collection to reflect the current number of respondents and the current number of estimated burden hours.⁸ The respondent burden for this collection is estimated to be as follows:

⁸ There was a separation of functions that resulted in a change of estimated burden hours per respondent. The estimated average burden hours increased from 1,148.5 to 1,149.5. In the prior renewal, two functions were combined and used for calculating the estimated burden hours. Separating these functions resulted in an adjustment to burden hours.

Estimated Number of Respondents: 106.

Estimated Average Burden Hours per Respondent: 1,149.5 hours.

Estimated Total Annual Burden Hours: 121,847 hours.

Frequency of Collection: As applicable.

There are no capital costs or operating and maintenance costs associated with this collection.

(Authority: 44 U.S.C. 3501 et seq.)

Dated: May 5, 2025.
Robert Sidman,
Deputy Secretary of the Commission.

[FR Doc. 2025-08070 Filed 5-7-25; 8:45 am]

BILLING CODE 6351-01-P